DEPARTMENT OF LABOR

Employment and Training Administration

[TA-W-70,405; TA-W-70,405FF]

Avaya Inc., Worldwide Services Group, Global Support Services (GSS) Organization, Including On-Site Leased Workers From Kelly Services Inc., P/S Partner Solutions Ltd., Exceed Resources Inc., Real Soft, InfoQuest Consulting Group, Ccsi Inc., ICONMA LLC, MGD Consulting, Inc., Case Interactive LLC., Sapphire Technologies, Highlands Ranch, CO; Including Employees in Support of Avaya Inc., Worldwide Services Group, Global Support Services (GSS) Organization, Highlands Ranch, CO Operating Out of the State of Nebraska; Amended Certification Regarding Eligibility To Apply for Worker Adjustment Assistance

In accordance with Section 223 of the Trade Act of 1974, as amended (“Act”), 19 U.S.C. 2273, the Department of Labor issued a Certification of Eligibility to Apply for Worker Adjustment Assistance on September 11, 2009, applicable to workers of Avaya Inc., Worldwide Services Group, Global Support Services (GSS) Organization, including on-site leased workers from Kelly Services Inc., P/S Partner Solutions Ltd., Exceed Resources Inc., Real Soft, InfoQuest Consulting Group, CCSI Inc., ICONMA LLC, MGD Consulting, Inc., Case Interactive LLC., and Sapphire Technologies, Highlands Ranch, Colorado. The notice was published in the Federal Register on November 5, 2009 (74 FR 57338).

At the request of the State Agency, the Department reviewed the certification for workers of the subject firm. The workers provide technical support for communication systems.

New information shows that worker separations have occurred involving employees in support of the Highlands Ranch, Colorado location of the subject firm working off-site at various locations in the state of Nebraska. These workers provided technical support for communication systems supporting the Highlands Ranch, Colorado production facility of the subject firm.

Based on these findings, the Department is amending this certification to include workers in support of the Highlands Ranch, Colorado location facility of the subject firm working out of the state of Nebraska.

The amended notice applicable to TA-W-70,405 is hereby issued as follows:

All workers of Avaya Inc., Worldwide Services Group, Global Support Services (GSS) Organization, including on-site leased workers from Kelly Services Inc., P/S Partner Solutions Ltd., Exceed Resources Inc., Real Soft, InfoQuest Consulting Group, CCSI Inc., ICONMA LLC, MGD Consulting, Inc., Case Interactive LLC., and Sapphire Technologies, Highlands Ranch, Colorado (TA-W-70,405), including employees in support of Avaya Inc., Worldwide Services Group, Global Support Services (GSS) Organization Highlands Ranch, Colorado working off-site in the states of Florida (TA-W-70,405A), California (TA-W-70,405B), South Carolina (TA-W-70,405C), Alabama (TA-W-70,405D), Michigan (TA-W-70,405E), Arizona (TA-W-70,405F), Ohio (TA-W-70,405G), Pennsylvania (TA-W-70,405H), North Carolina (TA-W-70,405I), Colorado (TA-W-70,405J), New York (TA-W-70,405K), Maryland (TA-W-70,405L), Georgia (TA-W-70,405M), New Jersey (TA-W-70,405N), Indiana (TA-W-70,405O), Tennessee (TA-W-70,405P), Wisconsin (TA-W-70,405Q), Oregon (TA-W-70,405R), Mississippi (TA-W-70,405S), Illinois (TA-W-70,405T), Texas (TA-W-70,405U), Iowa (TA-W-70,405V), Oklahoma (TA-W-70,405W), Washington (TA-W-70,405X), South Dakota (TA-W-70,405Y), Nevada (TA-W-70,405Z), New Hampshire (TA-W-70,405AA), Montana (TA-W-70,405BB), Virginia (TA-W-70,405CC), Massachusetts (TA-W-70,405DD), Connecticut (TA-W-70,405EE) and Nebraska (TA-W-70,405FF), who became totally or partially separated from who became totally or partially separated from employment on or after May 19, 2008, through September 11, 2011, and all workers in the group threatened with total or partial separation from employment on date of certification through two years from the date of certification, are eligible to apply for adjustment assistance under Chapter 2 of Title II of the Trade Act of 1974, as amended.

Signed at Washington, DC, this 6th day of May, 2010.
Elliott S. Kushner,
Certifying Officer, Division of Trade Adjustment Assistance.

[FR Doc. 2010-12112 Filed 5-19-10; 8:45 am]

BILLING CODE 4510-FN-P